DEPARTMENT OF HOMELAND SECURITY

U.S. Immigration and Customs Enforcement

[Docket No. ICEB-2022-0013]

RIN 1653-ZA33

Employment Authorization for Yemeni F-1 Nonimmigrant Students Experiencing Severe Economic Hardship as a Direct Result of the Crisis in Yemen

AGENCY: U.S. Immigration and Customs Enforcement, Department of Homeland Security.

ACTION: Notice.

SUMMARY: This notice announces that the Secretary of Homeland Security (Secretary) is suspending certain regulatory requirements for F-1 nonimmigrant students whose country of citizenship is Yemen, regardless of country of birth (or individuals having no nationality who last habitually resided in Yemen), and who are experiencing severe economic hardship as a direct result of the crisis in Yemen. The Secretary is taking action to provide relief to these Yemeni students who are lawful F-1 nonimmigrant students so the students may request employment authorization, work an increased number of hours while school is in session, and reduce their course load while continuing to maintain their F-1 nonimmigrant student status. The U.S. Department of Homeland Security (DHS) will deem an F-1 nonimmigrant student who receives employment authorization by means of this notice to be engaged in a “full course of study” for the duration of the employment authorization, if the nonimmigrant student satisfies the minimum course load requirement described in this notice.

DATES: This notice is effective from March 4, 2023, through September 3, 2024.

FOR FURTHER INFORMATION CONTACT: Sharon Snyder, Unit Chief, Policy and Response Unit, Student and Exchange Visitor Program, MS 5600, U.S. Immigration and Customs Enforcement, 500 12th Street SW, Washington, DC 20536-5600; email: sevp@ice.dhs.gov, telephone: (703) 603-3400. This is not a toll-free number. Program information can be found at https://www.ice.gov/sevis/.

SUPPLEMENTARY INFORMATION:

What action is DHS taking under this notice?

The Secretary is exercising the authority under 8 CFR 214.2(f)(9) to temporarily suspend the applicability of certain requirements governing on-campus and off-campus employment for F-1 nonimmigrant students whose country of citizenship is Yemen, regardless of country of birth (or individuals having no nationality who last habitually resided in Yemen), who are lawfully present in the United States in F-1 nonimmigrant student status on the date of publication of this notice, and who are experiencing severe economic hardship as a direct result of the crisis in Yemen. The original notice, which applied to F-1 nonimmigrant students who met certain criteria, including having been lawfully present in the United States in F-1 nonimmigrant status on September 4, 2021, became effective from September 4, 2021, through March 3, 2023. See 86 FR 36288 (July 9, 2021). Effective with this publication, suspension of the employment limitations is available through September 3, 2024, for those who are in lawful F-1 nonimmigrant status as of January 3, 2023. DHS will deem an F-1 nonimmigrant student granted employment authorization through this notice to be engaged in a “full course of study” for the duration of the employment authorization, if the student satisfies the minimum course load set forth in this notice.¹ See 8 CFR 214.2(f)(6)(i)(F).

¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of September 3, 2024, provided the student satisfies the minimum course load requirements in this notice. DHS also considers students who engage in online coursework pursuant to U.S. Immigration and Customs Enforcement (ICE) coronavirus disease 2019 (COVID-19) guidance for nonimmigrant students to be in compliance with regulations while such guidance remains in effect. See ICE Guidance and Frequently Asked Questions on COVID-19, Nonimmigrant Students & SEVP-Certified Schools: Frequently Asked Questions, https://www.ice.gov/coronavirus (last visited Oct. 14, 2022).

Who is covered by this notice?

This notice applies exclusively to F-1 nonimmigrant students who meet all of the following conditions:

(1) Are a citizen of Yemen, regardless of country of birth (or an individual having no nationality who last habitually resided in Yemen);

(2) Were lawfully present in the United States in F-1 nonimmigrant status under section 101(a)(15)(F)(i) of the Immigration and Nationality Act (INA), 8 U.S.C. 1101(a)(15)(F)(i), on the date of publication of this notice;

(3) Are enrolled in an academic institution that is Student and Exchange Visitor Program (SEVP)-certified for enrollment for F-1 nonimmigrant students;

(4) Are currently maintaining F-1 nonimmigrant status; and

(5) Are experiencing severe economic hardship as a direct result of the crisis in Yemen.

This notice applies to F-1 nonimmigrant students in an approved private school in kindergarten through grade 12, public school grades 9 through 12, and undergraduate and graduate education. An F-1 nonimmigrant student covered by this notice who transfers to another SEVP-certified academic institution remains eligible for the relief provided by means of this notice.

Why is DHS taking this action?

DHS is taking action to provide relief to Yemeni F-1 nonimmigrant students experiencing severe economic hardship due to the ongoing armed conflict and continued crisis in Yemen. Based on its review of country conditions in Yemen and input received from the U.S. Department of State, DHS is taking action to allow eligible F-1 nonimmigrant students from Yemen to request employment authorization, work an increased number of hours while school is in session, and reduce their course load while continuing to maintain F-1 nonimmigrant student status.

Previously DHS took action to provide temporary relief to F-1 nonimmigrant students whose country of citizenship is Yemen, regardless of country of birth (or individuals having no nationality who last habitually resided in Yemen), and who experienced severe economic hardship because of the crisis in Yemen. See 86 FR 36288 (July 9, 2021). It has enabled these F-1 nonimmigrant students to obtain employment authorization, work an increased number of hours while school was in session, and reduce their course load, while continuing to maintain their F-1 nonimmigrant student status.

DHS reviewed conditions in Yemen and determined that suspending certain employment authorization requirements for eligible nonimmigrant students is again warranted due to the ongoing civil war and continued crisis, which has deepened Yemen's difficult economic and humanitarian situation. While a truce backed by the United Nations (UN) came into effect on April 2, 2022,² the truce expired on October 2, 2022,³ and the future of the Yemen conflict continues to be uncertain.

² Yemen truce renewed for another two months, UN News, Aug. 2, 2022, available at: https://news.un.org/en/story/2022/08/1123832 (last visited Aug. 22, 2022).

³ Department of State, Press Release, UN Truce Expiration in Yemen, Oct. 3, 2022, available at: https://www.state.gov/un-truce-expiration-in-yemen/ (last visited Oct. 7, 2022).

The UN considers the situation in Yemen to be the most widespread and dire humanitarian crisis in the world with an estimated 24.1 million people (approximately 80% of the population) needing humanitarian assistance as a result of armed conflict in the country.⁴ The number of those who have died as a result of the conflict is now estimated at over 377,000 individuals.⁵ The protracted armed conflict has resulted in high levels of food insecurity, limited access to water and medical care,⁶ and the large-scale destruction of Yemen's infrastructure and cultural heritage.⁷

⁴ The United Nations in Yemen, available at: https://yemen.un.org/en/about/about-the-un, (last visited Aug. 31, 2022).

⁵ Yemen war deaths will reach 377,000 by end of the year: UN, Al-Jazeera, Nov. 23, 2021, available at: https://www.aljazeera.com/news/2021/11/23/un-yemen-recovery-possible-in-one-generation-if-war-stops-now (last visited Aug. 31, 2022).

⁶ Yemen's Tragedy: War, Stalemate, and Suffering, Council on Foreign Relations, Aug. 22, 2022, available at: https://www.cfr.org/backgrounder/yemen-crisis (last visited Aug. 31, 2022).

⁷ Heritage at Risk in Yemen, UNESCO, available at: https://en.unesco.org/galleries/heritage-risk-yemen (last visited Aug. 31, 2022).

The United Nations High Commissioner for Refugees (UNHCR) has recorded 73,077 Yemeni refugees and asylum-seekers in neighboring countries.⁸ Over 4 million people have been internally displaced within Yemen, 286,000 of those in 2021 alone.⁹ The situation of internally displaced persons (IDPs) did not improve despite the truce.

⁸ Refugee Data Finder, The UN Refugee Agency, UNHCR, available at: https://www.unhcr.org/refugee-statistics/download/?url=Gb4fe1 (last visited Sept. 1, 2022).

⁹ Yemen Fact Sheet, UNHCR, June, 2022, available at: https://reporting.unhcr.org/document/3030 (last visited Sept. 1, 2022).

The conflict in Yemen has directly affected the physical security of the civilian population throughout the country.¹⁰ Active conflict has put civilians at significant risk of harm—both directly from the protracted armed conflict and from conflict-related externalities.¹¹ Despite the truce, Explosive Remnants of War, which consist of Unexploded Ordinances, Improvised Explosive Devices and landmines, remain a threat to civilians in Yemen.¹² Terrorist organizations operating inside of Yemen also pose a danger to civilians.¹³

¹⁰ World Report—Yemen, Human Rights Watch World Report, available at: https://www.hrw.org/world-report/2022/country-chapters/yemen?gclid=EAIaIQobChMIo86n6cvx-QIVL3FvBB3bpQduEAAYASAAEgI9C_D_BwE (last visited Aug. 31, 2022).

¹¹ World Report—Yemen, Human Rights Watch World Report, available at: https://www.hrw.org/world-report/2022/country-chapters/yemen?gclid=EAIaIQobChMIo86n6cvx-QIVL3FvBB3bpQduEAAYASAAEgI9C_D_BwE (last visited Aug. 31, 2022).

¹² Yemen: Explosive remnants of war the biggest killer of children since truce began, Save the Children, June 30, 2022, available at: https://www.savethechildren.net/news/yemen-explosive-remnants-war-biggest-killed-children-truce-began (last visited Aug. 31, 2022).

¹³ World Report—Yemen, Human Rights Watch World Report, available at: https://www.hrw.org/world-report/2022/country-chapters/yemen?gclid=EAIaIQobChMIo86n6cvx-QIVL3FvBB3bpQduEAAYASAAEgI9C_D_BwE (last visited Aug. 31, 2022).

Currently in Yemen, 19.7 million people lack access to basic health services.¹⁴ Only 51 percent of the health facilities in Yemen are fully functioning and of those, most lack operational specialists, equipment, and basic medicines.¹⁵ These gaps impact services for the most vulnerable, especially women and children.” ¹⁶ The World Food Program (WFP) estimates that 17.4 million Yemenis (or more than 50 percent of the population) are food insecure, including 7.3 million needing emergency assistance.¹⁷ The International Committee of the Red Cross (ICRC) estimates that 17.8 million people in Yemen (approximately 56% of the population) do not currently have access to clean water and sanitation.¹⁸ The condition of Yemen's water supply also had a direct impact on major health outbreaks, like the cholera outbreak of 2016,¹⁹ since cholera is an infectious disease that is caused by drinking unclean or unsanitary water or food.²⁰ Though there has been a significant decrease in the number of Acute Watery Diarrhea/suspected cholera cases in 2022 compared with the same period of 2021,²¹ the cholera outbreak in Yemen was considered to be one of the worst outbreaks of the disease in modern times and affected all other major health crises including COVID-19, and widespread malnutrition.²²

¹⁴ Yemen Health Factsheet, USAID, Apr. 25, 2022, available at: https://www.usaid.gov/yemen/fact-sheets/health-fact-sheet (last visited Oct. 21, 2022).

¹⁵ Yemen Health Factsheet, USAID, Apr. 25, 2022, available at: https://www.usaid.gov/yemen/fact-sheets/health-factsheet#:~:text=In%20Yemen%2C%2019.7%20million%20people,vulnerable%2C%20especially%20women%20and%20children. (last visited Aug. 31, 2022).

¹⁶ Yemen Health Factsheet, USAID, Apr. 25, 2022, available at: https://www.usaid.gov/yemen/fact-sheets/health-factsheet#:~:text=In%20Yemen%2C%2019.7%20million%20people,vulnerable%2C%20especially%20women%20and%20children. (last visited Aug. 31, 2022).

¹⁷ Yemen—World Food Programme, June 2022, available at: https://docs.wfp.org/api/documents/WFP-0000141295/download/ (last visited Sept. 2, 2022).

Brutal War on Yemen: Dire Hunger Crisis Teetering on the Edge of Catastrophe, IPS, Mar. 18, 2022, available at: https://www.ipsnews.net/2022/03/brutal-war-yemen-dire-hunger-crisis-teetering-edge-catastrophe/?utm_source=rss&utm_medium=rss&utm_campaign=brutal-war-yemen-dire-hunger-crisis-teetering-edge-catastrophe (last visited Sept. 2, 2022).

¹⁸ The Water Situation in Yemen, ICRC, June 5, 2002, available at: https://www.icrc.org/en/document/water-situation-yemen (last visited Sept. 1, 2022).

Yemen-Complex Emergency, USAID, Fact Sheet #10, Fiscal Year 2022, Aug. 12, 2022, available at: https://www.usaid.gov/sites/default/files/documents/2022-08-12_USG_Yemen_Complex_Emergency_Fact_Sheet_10.pdf (last visited Sept. 1, 2022).

¹⁹ Yemen's cholera outbreak now the worst in history as millionth case looms, The Guardian, Oct, 12, 2017, available at: https://www.theguardian.com/global-development/2017/oct/12/yemen-cholera-outbreak-worst-in-history-1-million-cases-by-end-of-year (last visited Sept. 6, 2022).

²⁰ Yemen, Water, Sanitation, Hygiene, UNICEF, available at: https://www.unicef.org/yemen/water-sanitation-and-hygiene (last visited Oct. 21, 2022). See also World Health Organization, Cholera, Mar. 30, 2022, available at: https://www.who.int/news-room/fact-sheets/detail/cholera (last visited Oct. 21, 2022).

²¹ Yemen: Cholera Outbreak—Oct 2016, UNICEF, 16 Mar 2022, available at: https://reliefweb.int/disaster/ep-2016-000107-yem (last visited Nov. 17, 2022).

²² Agencies fear hidden cholera deaths in Yemen as Covid-19 overwhelms clinics, The Guardian, July 28, 2020, available at: https://www.theguardian.com/global-development/2020/jul/28/agencies-fear-hidden-cholera-deaths-in-yemen-as-covid-19-overwhelms-clinics (last visited Sept. 1, 2022).

The conflict continues to damage civilian infrastructure including houses, hospitals, agricultural infrastructure, energy infrastructure, roads, bridges and water systems.²³ Yemen is highly dependent on food, fuel, and medicine imports.²⁴ Despite the truce, the World Bank reported that in Yemen as of April 14, 2022 “[e]conomic conditions continue to deteriorate, and the acute humanitarian crisis persists.” ²⁵ Further, the conflict in Ukraine has negatively impacted the ability of Yemenis to import foodstuffs.²⁶

²³ Saudi-led attacks devastated Yemen's civilian infrastructure, dramatically worsening the humanitarian crisis, The Washington Post, Feb. 22, 2021, available at: https://www.washingtonpost.com/politics/2021/02/22/saudi-led-attacks-devastated-yemens-civilian-infrastructure-dramatically-worsening-humanitarian-crisis/ (last visited Sept. 6, 2022).

²⁴ Yemen: Civil War and Regional Intervention, Congressional Research Service, Sept. 17, 2019, available at: https://fas.org/sgp/crs/mideast/R43960.pdf (last visited Sept. 6, 2022).

²⁵ Republic of Yemen, World Bank Economic Update, Apr. 14, 2022, available at: https://thedocs.worldbank.org/en/doc/de816119d04a4e82a9c380bfd02dbc3a-0280012022/original/mpo-sm22-yemen-yem-kcm.pdf (last visited Sept. 1, 2022).

²⁶ Republic of Yemen, World Bank Economic Update, Apr. 14, 2022, available at: https://thedocs.worldbank.org/en/doc/de816119d04a4e82a9c380bfd02dbc3a-0280012022/original/mpo-sm22-yemen-yem-kcm.pdf (last visited Sept. 1, 2022).

As of December 20, 2022, approximately 325 F-1 nonimmigrant students from Yemen are enrolled at SEVP-certified academic institutions in the United States. Given the extent of the crisis in Yemen, affected students whose primary means of financial support comes from Yemen may need to be exempt from the normal student employment requirements to continue their studies in the United States. The ongoing crisis has made it unfeasible for many students to safely return to Yemen for the foreseeable future. Without employment authorization, these students may lack the means to meet basic living expenses.

What is the minimum course load requirement to maintain valid F-1 nonimmigrant status under this notice?

Undergraduate F-1 nonimmigrant students who receive on-campus or off-campus employment authorization under this notice must remain registered for a minimum of six semester or quarter hours of instruction per academic term. Undergraduate F-1 nonimmigrant students enrolled in a term of different duration must register for at least one half of the credit hours normally required under a “full course of study.” See 8 CFR 214.2(f)(6)(i)(B) and (F). A graduate-level F-1 nonimmigrant student who receives on-campus or off-campus employment authorization under this notice must remain registered for a minimum of three semester or quarter hours of instruction per academic term. See 8 CFR 214.2(f)(5)(v). Nothing in this notice affects the applicability of other minimum course load requirements set by the academic institution.

In addition, an F-1 nonimmigrant student (either undergraduate or graduate) granted on-campus or off-campus employment authorization under this notice may count up to the equivalent of one class or three credits per session, term, semester, trimester, or quarter of online or distance education toward satisfying this minimum course load requirement, unless their course of study is in an English language study program.²⁷ See 8 CFR 214.2(f)(6)(i)(G). An F-1 nonimmigrant student attending an approved private school in kindergarten through grade 12 or public school in grades 9 through 12 must maintain “class attendance for not less than the minimum number of hours a week prescribed by the school for normal progress toward graduation,” as required under 8 CFR 214.2(f)(6)(i)(E). Nothing in this notice affects the applicability of federal and state labor laws limiting the employment of minors.

²⁷ DHS considers students who are compliant with ICE Coronavirus Disease 2019 (COVID-19) guidance for nonimmigrant students to be in compliance with regulations while such COVID-19 guidance remains in effect. See ICE Guidance and Frequently Asked Questions on COVID-19, https://www.ice.gov/coronavirus (last visited Oct. 14, 2022).

May an eligible F-1 nonimmigrant student who already has on-campus or off-campus employment authorization benefit from the suspension of regulatory requirements under this notice?

Yes. An F-1 nonimmigrant student who is a Yemeni citizen, regardless of country of birth (or an individual having no nationality who last habitually resided in Yemen), who already has on-campus or off-campus employment authorization and is otherwise eligible may benefit under this notice, which suspends certain regulatory requirements relating to the minimum course load requirement under 8 CFR 214.2(f)(6)(i) and certain employment eligibility requirements under 8 CFR 214.2(f)(9). Such an eligible F-1 nonimmigrant student may benefit without having to apply for a new Form I-766, Employment Authorization Document (EAD). To benefit from this notice, the F-1 nonimmigrant student must request that their designated school official (DSO) enter the following statement in the remarks field of the student's Student and Exchange Visitor Information System (SEVIS) record, which the student's Form I-20, Certificate of Eligibility for Nonimmigrant (F-1) Student Status, will reflect:

Approved for more than 20 hours per week of [DSO must insert “on-campus” or “off-campus,” depending upon the type of employment authorization the student already has] employment authorization and reduced course load under the Special Student Relief authorization from [DSO must insert the beginning date of the notice or the beginning date of the student's employment, whichever date is later] through [DSO must insert either the student's program end date, the current EAD expiration date (if the student is currently authorized for off-campus employment), or the end date of this notice, whichever date comes first].²⁸

²⁸ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of September 3, 2024, provided the student satisfies the minimum course load requirements in this notice.

Must the F-1 nonimmigrant student apply for reinstatement after expiration of this special employment authorization if the student reduces their “full course of study”?

No. DHS will deem an F-1 nonimmigrant student who receives and comports with the employment authorization permitted under this notice to be engaged in a “full course of study” ²⁹ for the duration of the student's employment authorization, provided that a qualifying undergraduate level F-1 nonimmigrant student remains registered for a minimum of six semester or quarter hours of instruction per academic term, and a qualifying graduate level F-1 nonimmigrant student remains registered for a minimum of three semester or quarter hours of instruction per academic term. See 8 CFR 214.2(f)(5)(v) and (f)(6)(i)(F). Undergraduate F-1 nonimmigrant students enrolled in a term of different duration must register for at least one half of the credit hours normally required under a “full course of study.” See 8 CFR 214.2(f)(6)(i)(B) and (F). DHS will not require such students to apply for reinstatement under 8 CFR 214.2(f)(16) if they are otherwise maintaining F-1 nonimmigrant status.

²⁹ See 8 CFR 214.2(f)(6).

Will an F-2 dependent (spouse or minor child) of an F-1 nonimmigrant student covered by this notice be eligible for employment authorization?

No. An F-2 spouse or minor child of an F-1 nonimmigrant student is not authorized to work in the United States and, therefore, may not accept employment under the F-2 nonimmigrant status, consistent with 8 CFR 214.2(f)(15)(i).

Will the suspension of the applicability of the standard student employment requirements apply to an individual who receives an initial F-1 visa and makes an initial entry into the United States after the effective date of this notice in the Federal Register?

No. The suspension of the applicability of the standard regulatory requirements only applies to certain F-1 nonimmigrant students who meet the following conditions:

(1) Are a citizen of Yemen regardless of country of birth (or an individual having no nationality who last habitually resided in Yemen);

(2) Were lawfully present in the United States in F-1 nonimmigrant status, under section 101(a)(15)(F)(i) of the INA, 8 U.S.C. 1101(a)(15)(F)(i) on the date of publication of this notice;

(3) Are enrolled in an academic institution that is SEVP-certified for enrollment of F-1 nonimmigrant students;

(4) Are maintaining F-1 nonimmigrant status; and

(5) Are experiencing severe economic hardship as a direct result of the crisis in Yemen.

An F-1 nonimmigrant student who does not meet all these requirements is ineligible for the suspension of the applicability of the standard regulatory requirements (even if experiencing severe economic hardship as a direct result of the crisis in Yemen).

Does this notice apply to a continuing F-1 nonimmigrant student who departs the United States after the effective date of this notice in the Federal Register and who needs to obtain a new F-1 visa before returning to the United States to continue an educational program?

Yes. This notice applies to such an F-1 nonimmigrant student, but only if the DSO has properly notated the student's SEVIS record, which will then appear on the student's Form I-20. The normal rules for visa issuance remain applicable to a nonimmigrant who needs to apply for a new F-1 visa to continue an educational program in the United States.

Does this notice apply to elementary school, middle school, and high school students in F-1 status?

Yes. However, this notice does not by itself reduce the required course load for F-1 nonimmigrant students from Yemen enrolled in kindergarten through grade 12 at a private school, or grades 9 through 12 at a public high school. Such students must maintain the minimum number of hours of class attendance per week prescribed by the academic institution for normal progress toward graduation, as required under 8 CFR 214.2(f)(6)(i)(E). The suspension of certain regulatory requirements related to employment through this notice is applicable to all eligible F-1 nonimmigrant students regardless of educational level. Eligible F-1 nonimmigrant students from Yemen enrolled in an elementary school, middle school, or high school may benefit from the suspension of the requirement in 8 CFR 214.2(f)(9)(i) that limits on-campus employment to 20 hours per week while school is in session.

On-Campus Employment Authorization

Will an F-1 nonimmigrant student who receives on-campus employment authorization under this notice be authorized to work more than 20 hours per week while school is in session?

Yes. For an F-1 nonimmigrant student covered in this notice, the Secretary is suspending the applicability of the requirement in 8 CFR 214.2(f)(9)(i) that limits an F-1 nonimmigrant student's on-campus employment to 20 hours per week while school is in session. An eligible F-1 nonimmigrant student has authorization to work more than 20 hours per week while school is in session if the DSO has entered the following statement in the remarks field of the student's SEVIS record, which will be reflected on the student's Form I-20:

Approved for more than 20 hours per week of on-campus employment and reduced course load, under the Special Student Relief authorization from [DSO must insert the beginning date of this notice or the beginning date of the student's employment, whichever date is later] through [DSO must insert the student's program end date or the end date of this notice, whichever date comes first].³⁰

³⁰ Because the suspension of requirements under this notice applies throughout an academic term during which the suspension is in effect, DHS considers an F-1 nonimmigrant student who engages in a reduced course load or employment (or both) after this notice is effective to be engaging in a “full course of study,” See 8 CFR 214.2(f)(6), and eligible for employment authorization, through the end of any academic term for which such student is matriculated as of September 3, 2024, provided the student satisfies the minimum course load requirements in this notice.

To obtain on-campus employment authorization, the F-1 nonimmigrant student must demonstrate to the DSO that the employment is necessary to avoid severe economic hardship directly resulting from the crisis in Yemen. An F-1 nonimmigrant student authorized by the DSO to engage in on-campus employment by means of this notice does not need to file any applications with U.S. Citizenship and Immigration Services (USCIS). The standard rules permitting full-time employment on-campus when school is not in session or during school vacations apply, as described in 8 CFR 214.2(f)(9)(i).

Will an F-1 nonimmigrant student who receives on-campus employment authorization under this notice have authorization to reduce the normal course load and still maintain his or her F-1 nonimmigrant student status?

Yes. DHS will deem an F-1 nonimmigrant student who receives on-campus employment authorization under this notice to be engaged in a “full course of study” ³¹ for the purpose of maintaining their F-1 nonimmigrant student status for the duration of the on-campus employment, if the student satisfies the minimum course load requirement described in this notice, consistent with 8 CFR 214.2(f)(6)(i)(F). However, the authorization to reduce the normal course load is solely for DHS purposes of determining valid F-1 nonimmigrant student status. Nothing in this notice mandates that school officials allow an F-1 nonimmigrant student to take a reduced course load if the reduction would not meet the academic institution's minimum course load requirement for continued enrollment.³²

³¹ See 8 CFR 214.2(f)(6).

³² Minimum course load requirement for enrollment in a school must be established in a publicly available document (e.g., catalog, website, or operating procedure), and it must be a standard applicable to all students (U.S. citizens and foreign students) enrolled at the school.

Off-Campus Employment Authorization

What regulatory requirements does this notice temporarily suspend relating to off-campus employment?

For an F-1 nonimmigrant student covered by this notice, as provided under 8 CFR 214.2(f)(9)(ii)(A), the Secretary is suspending the following regulatory requirements relating to off-campus employment:

(a) The requirement that a student must have been in F-1 nonimmigrant student status for one full academic year to be eligible for off-campus employment;

(b) The requirement that an F-1 nonimmigrant student must demonstrate that acceptance of employment will not interfere with the student's carrying a full course of study;

(c) The requirement that limits an F-1 nonimmigrant student's employment authorization to no more than 20 hours per week of off-campus employment while the school is in session; and

(d) The requirement that the student demonstrate that employment under 8 CFR 214.2(f)(9)(i) is unavailable or otherwise insufficient to meet the needs that have arisen as a result of the unforeseen circumstances.

Will an F-1 nonimmigrant student who receives off-campus employment authorization under this notice have authorization to reduce the normal course load and still maintain F-1 nonimmigrant status?

Yes. DHS will deem an F-1 nonimmigrant student who receives off-campus employment authorization by means of this notice to be engaged in a “full course of study” ³³ for the purpose of maintaining F-1 nonimmigrant student status for the duration of the student's employment authorization if the student satisfies the minimum course load requirement described in this notice, consistent with 8 CFR 214.2(f)(6)(i)(F). However, the authorization for a reduced course load is solely for DHS purposes of determining valid F-1 nonimmigrant student status. Nothing in this notice mandates that school officials allow an F-1 nonimmigrant student to take a reduced course load if such reduced course load would not meet the school's minimum course load requirement.³⁴

³³ See 8 CFR 214.2(f)(6).

³⁴ Minimum course load requirement for enrollment in a school must be established in a publicly available document (e.g., catalog, website, or operating procedure), and it must be a standard applicable to all students (U.S. citizens and foreign students) enrolled at the school.

How may an eligible F-1 nonimmigrant student obtain employment authorization for off-campus employment with a reduced course load under this notice?

An F-1 nonimmigrant student must file a Form I-765, Application for Employment Authorization, with USCIS to apply for off-campus employment authorization based on severe economic hardship directly resulting from the crisis in Yemen.³⁵ Filing instructions are located at https://www.uscis.gov/i-765.

³⁵ See 8 CFR 274a.12(c)(3)(iii).

Fee considerations. Submission of a Form I-765 currently requires payment of a $410 fee. An applicant who is unable to pay the fee may submit a completed Form I-912, Request for Fee Waiver, along with the Form I-765, Application for Employment Authorization. See www.uscis.gov/feewaiver. The submission must include an explanation about why USCIS should grant the fee waiver and the reason(s) for the inability to pay, and any evidence to support the reason(s). See 8 CFR 103.7(c).

Supporting documentation. An F-1 nonimmigrant student seeking off-campus employment authorization due to severe economic hardship must demonstrate the following to their DSO:

(1) This employment is necessary to avoid severe economic hardship; and

(2) The hardship is a direct result of the crisis in Yemen.

If the DSO agrees that the F-1 nonimmigrant student is entitled to receive such employment authorization, the DSO must recommend application approval to USCIS by entering the following statement in the remarks field of the student's SEVIS record, which will then appear on that student's Form I-20:

Recommended for off-campus employment authorization in excess of 20 hours per week and reduced course load under the Special Student Relief authorization from the date of the USCIS authorization noted on Form I-766 through [DSO must insert the program end date or the end date of this notice, whichever date comes first].³⁶

³⁶ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of September 3, 2024, provided the student satisfies the minimum course load requirements in this notice.

The F-1 nonimmigrant student must then file the properly endorsed Form I-20 and Form I-765 according to the instructions for the Form I-765. The F-1 nonimmigrant student may begin working off campus only upon receipt of the EAD from USCIS.

DSO recommendation. In making a recommendation that an F-1 nonimmigrant student be approved for Special Student Relief, the DSO certifies that:

(a) The F-1 nonimmigrant student is in good academic standing and is carrying a “full course of study” ³⁷ at the time of the request for employment authorization;

³⁷ See 8 CFR 214.2(f)(6).

(b) The F-1 nonimmigrant student is a citizen of Yemen, regardless of country of birth (or an individual having no nationality who last habitually resided in Yemen), and is experiencing severe economic hardship as a direct result of the crisis in Yemen, as documented on the Form I-20;

(c) The F-1 nonimmigrant student has confirmed that the student will comply with the reduced course load requirements of this notice and register for the duration of the authorized employment for a minimum of six semester or quarter hours of instruction per academic term if at the undergraduate level, or for a minimum of three semester or quarter hours of instruction per academic term if the student is at the graduate level; ³⁸ and

³⁸ 8 CFR 214.2(f)(5)(v).

(d) The off-campus employment is necessary to alleviate severe economic hardship to the individual as a direct result of the crisis in Yemen.

Processing. To facilitate prompt adjudication of the student's application for off-campus employment authorization under 8 CFR 214.2(f)(9)(ii)(C), the F-1 nonimmigrant student should do both of the following:

(a) Ensure that the application package includes all of the following documents:

(1) A completed Form I-765;

(2) The required fee or properly documented fee waiver request as defined in 8 CFR 103.7(c); and

(3) A signed and dated copy of the student's Form I-20 with the appropriate DSO recommendation, as previously described in this notice; and

(b) Send the application in an envelope which is clearly marked on the front of the envelope, bottom right-hand side, with the phrase “SPECIAL STUDENT RELIEF.” ³⁹ Failure to include this notation may result in significant processing delays.

³⁹ Guidance for direct filing addresses can be found here: https://www.uscis.gov/i-765-addresses.

If USCIS approves the student's Form I-765, USCIS will send the student an EAD as evidence of employment authorization. The EAD will contain an expiration date that does not exceed the end of the granted temporary relief.

Temporary Protected Status (TPS) Considerations

Can an F-1 nonimmigrant student re-register or apply for TPS and for benefits under this notice at the same time?

Yes. An F-1 nonimmigrant student who must re-register, or one that has not yet applied for TPS or for other relief that reduces the student's course load per term and permits an increased number of work hours per week, such as Special Student Relief,⁴⁰ under this notice has two options.

⁴⁰ See DHS Study in the States, Special Student Relief, https://studyinthestates.dhs.gov/students/special-student-relief (last visited Oct. 14, 2022).

Under the first option, the nonimmigrant student may re-register or apply for TPS according to the instructions in the USCIS notice designating Yemen for TPS elsewhere in this issue of the Federal Register. All TPS applicants must file a Form I-821, Application for Temporary Protected Status, with the appropriate fee (or request a fee waiver). Although not required to do so, if F-1 nonimmigrant students want to obtain a new EAD based on their TPS application that is valid through September 3, 2024, and to be eligible for automatic EAD extensions that may be available to certain EADs with an A-12 or C-19 category code, they may need to file Form I-765 and pay the Form I-765 fee (or request a fee waiver). A Yemen TPS-related EAD can also be automatically extended for up to 540 days ⁴¹ if an F-1 nonimmigrant student who is a TPS beneficiary properly files a renewal Form I-765 application and pays the Form I-765 fee (or requests a fee waiver) during the filing period described in the Federal Register notice extending the designation of Yemen for TPS. After receiving the TPS-related EAD, an F-1 nonimmigrant student may request that their DSO make the required entry in SEVIS, issue an updated Form I-20, as described in this notice, and notate that the nonimmigrant student has been authorized to carry a reduced course load and is working pursuant to a TPS-related EAD. So long as the nonimmigrant student maintains the minimum course load described in this notice, does not otherwise violate their nonimmigrant status, including as provided under 8 CFR 214.1(g), and maintains TPS, then the student maintains F-1 status and TPS concurrently.

⁴¹ 8 CFR 274a.13(d)(5).

Under the second option, the nonimmigrant student may apply for an EAD under Special Student Relief by filing Form I-765 at the location specified in the filing instructions. At the same time, the F-1 nonimmigrant student may file a separate TPS application but must submit the Form I-821 according to the instructions provided in the Federal Register notice designating Yemen for TPS. If the F-1 nonimmigrant student has already applied for employment authorization under Special Student Relief, they are not required to submit the Form I-765 as part of the TPS application. However, some nonimmigrant students may wish to obtain a TPS-related EAD in light of certain extensions that may be available to EADs with an A-12 or C-19 category code that are not available to Special Student Relief EADs. The nonimmigrant student should check the appropriate box when filling out Form I-821 to indicate whether a TPS-related EAD is being requested. Again, so long as the nonimmigrant student maintains the minimum course load described in this notice and does not otherwise violate the student's nonimmigrant status, included as provided under 8 CFR 214.1(g), the nonimmigrant will be able to maintain compliance requirements for F-1 nonimmigrant student status while having TPS.

When a student applies simultaneously for TPS and benefits under this notice, what is the minimum course load requirement while an application for employment authorization is pending?

The F-1 nonimmigrant student must maintain normal course load requirements for a “full course of study” ⁴² unless or until the nonimmigrant student receives employment authorization under this notice. TPS-related employment authorization, by itself, does not authorize a nonimmigrant student to drop below twelve credit hours, or otherwise applicable minimum requirements (e.g., clock hours for non-traditional academic programs). Once approved for Special Student Relief employment authorization, the F-1 nonimmigrant student may drop below twelve credit hours, or otherwise applicable minimum requirements (with a minimum of six semester or quarter hours of instruction per academic term if at the undergraduate level, or for a minimum of three semester or quarter hours of instruction per academic term if at the graduate level). See 8 CFR 214.2(f)(5)(v), (f)(6), and (f)(9)(i) and (ii).

⁴² See 8 CFR 214.2(f)(6).

How does a student who has received a TPS-related EAD then apply for authorization to take a reduced course load under this notice?

There is no further application process with USCIS if a student has been approved for a TPS-related EAD. The F-1 nonimmigrant student must demonstrate and provide documentation to the DSO of the direct economic hardship resulting from the crisis in Yemen. The DSO will then verify and update the student's record in SEVIS to enable the F-1 nonimmigrant student with TPS to reduce the course load without any further action or application. No other EAD needs to be issued for the F-1 nonimmigrant student to have employment authorization.

Can a noncitizen who has been granted TPS apply for reinstatement of F-1 nonimmigrant student status after the noncitizen's F-1 nonimmigrant student status has lapsed?

Yes. Regulations permit certain students who fall out of F-1 nonimmigrant student status to apply for reinstatement. See 8 CFR 214.2(f)(16). This provision might apply to students who worked on a TPS-related EAD or dropped their course load before publication of this notice, and therefore fell out of student status. These students must satisfy the criteria set forth in the F-1 nonimmigrant student status reinstatement regulations.

How long will this notice remain in effect?

This notice grants temporary relief through September 3, 2024,⁴³ to eligible F-1 nonimmigrant students. DHS will continue to monitor the situation in Yemen. Should the special provisions authorized by this notice need modification or extension, DHS will announce such changes in the Federal Register.

⁴³ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of September 3, 2024, provided the student satisfies the minimum course load requirement in this notice. DHS also considers students who engage in online coursework pursuant to ICE coronavirus disease 2019 (COVID-19) guidance for nonimmigrant students to be in compliance with regulations while such guidance remains in effect. See ICE Guidance and Frequently Asked Questions on COVID-19, Nonimmigrant Students & SEVP-Certified Schools: Frequently Asked Questions, https://www.ice.gov/coronavirus (last visited Oct. 14, 2022).

Paperwork Reduction Act (PRA)

An F-1 nonimmigrant student seeking off-campus employment authorization due to severe economic hardship resulting from the crisis in Yemen must demonstrate to the DSO that this employment is necessary to avoid severe economic hardship. A DSO who agrees that a nonimmigrant student should receive such employment authorization must recommend an application approval to USCIS by entering information in the remarks field of the student's SEVIS record. The authority to collect this information is in the SEVIS collection of information currently approved by the Office of Management and Budget (OMB) under OMB Control Number 1653-0038.

This notice also allows an eligible F-1 nonimmigrant student to request employment authorization, work an increased number of hours while the academic institution is in session, and reduce their course load while continuing to maintain F-1 nonimmigrant student status.

To apply for employment authorization, certain F-1 nonimmigrant students must complete and submit a currently approved Form I-765 according to the instructions on the form. OMB has previously approved the collection of information contained on the current Form I-765, consistent with the PRA (OMB Control No. 1615-0040). Although there will be a slight increase in the number of Form I-765 filings because of this notice, the number of filings currently contained in the OMB annual inventory for Form I-765 is sufficient to cover the additional filings. Accordingly, there is no further action required under the PRA.

Alejandro Mayorkas,
Secretary, U.S. Department of Homeland Security.

[FR Doc. 2022-28293 Filed 12-30-22; 8:45 am]

BILLING CODE 9111-28-P